NATIONAL AERONAUTICS AND SPACE ADMINISTRATION

[Notice (05-015)]

NASA International Space Station Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA International Space Station Strategic Roadmap Committee.

DATES: Wednesday, February 23, 2005, 9 a.m. to 5:30 p.m., Thursday, February 24, 2005, 9 a.m. to 2 p.m. Eastern Standard Time.

ADDRESSES: Loews Annapolis Hotel, 126 West Street, Annapolis, MD 21401.

FOR FURTHER INFORMATION CONTACT: Ms. Stacey Edgington, 202-358-4519.

SUPPLEMENTARY INFORMATION: The meeting will be open to the public up to the seating capacity of the meeting room. Attendees will be requested to sign a register.

The agenda for the meeting is as follows:

—NASA Strategic Roadmap Overview.

—ISS Development and Operations Status.

—ISS Utilization Study Status.

—Biomedical Studies for Exploration.

—Technology Demonstrations for Exploration.

—Integrated Space Operations Summit.

—ISS Roadmap Committee Discussion.

It is imperative that the meeting be held on these dates to accommodate the scheduling priorities of the key participants.

Dated: January 31, 2005.
P. Diane Rausch,
Advisory Committee Management Officer, National Aeronautics and Space Administration.

[FR Doc. 05-2166 Filed 2-3-05; 8:45 am]

BILLING CODE 7510-13-P